DEPARTMENT OF ENERGY

Federal Energy Regulatory Commission

Combined Notice of Filings #1

Take notice that the Commission received the following electric corporate filings:

Docket Numbers: EC14-101-000.

Applicants: NRG Yield, Inc., NRG Yield Operating LLC, Alta Wind I, LLC, Alta Wind II, LLC, Alta Wind III, LLC, Alta Wind IV, LLC, Alta Wind V, LLC, Alta Wind X, LLC, Alta Wind XI, LLC.

Description: Joint Application for Approval under Section 203 of the Federal Power Act and Request for Shortened Comment Period of NRG Yield, Inc., et. al.

Filed Date: 6/10/14.

Accession Number: 20140610-5245.

Comments Due: 5 p.m. ET 7/1/14.

Take notice that the Commission received the following electric rate filings:

Docket Numbers: ER12-2178-009; ER10-2172-020; ER12-2311-008; ER10-2179-023; ER11-2016-015; ER10-2183-017; ER10-2184-020; ER10-1048-017; ER10-2192-020; ER11-2056-014; ER10-2178-020; ER14-1524-001; ER11-2014-017; ER11-2013-017; ER10-3308-019; ER10-1020-016; ER13-1536-003; ER10-1078-016; ER10-1080-016; ER11-2010-017; ER10-1081-016; ER10-2180-020; ER12-2201-008; ER11-2011-016; ER12-2528-008; ER11-2009-016; ER11-3989-013; ER10-2181-023; ER10-1143-016; ER10-2182-023; ER11-2383-004; ER12-1829-008; ER11-2007-015; ER12-1223-013; ER11-2005-017.

Applicants: AV Solar Ranch 1, LLC, Baltimore Gas and Electric Company, Beebe Renewable Energy, LLC, Calvert Cliffs Nuclear Power Plant LLC, Cassia Gulch Wind Park, LLC, CER Generation II, LLC, CER Generation, LLC, Commonwealth Edison Company, Constellation Energy Commodities Group Maine, LLC, Constellation Mystic Power, LLC, Constellation NewEnergy, Inc., Constellation Power Source Generation LLC, Cow Branch Windpower, LLC, CR Clearing, LLC, Criterion Power Partners, LLC, Exelon Framingham, LLC, Exelon Generation Company, LLC, Exelon New Boston, LLC, Exelon West Medway, LLC, Exelon Wind 4, LLC, Exelon Wyman, LLC, Handsome Lake Energy, LLC, Harvest II Wind Farm, LLC, Harvest WindFarm, LLC, High Mesa Energy, LLC, Michigan Wind 1, LLC, Michigan Wind 2, LLC, Nine Mile Point Nuclear Station, LLC, PECO Energy Company, R.E. Ginna Nuclear Power Plant, LLC, Safe Harbor Water Power Corporation, Shooting Star Wind Project, LLC, Tuana Springs Energy, LLC, Wildcat Wind, LLC, Wind Capital Holdings, LLC.

Description: Notice of Non-Material Change in Status of the Exelon MBR Entities.

Filed Date: 6/10/14.

Accession Number: 20140610-5252.

Comments Due: 5 p.m. ET 7/1/14.

Docket Numbers: ER14-1838-000.

Applicants: 511 Plaza Energy, LLC.

Description: Clarification to May 1, 2014 511 Plaza Energy, LLC tariff filing.

Filed Date: 6/10/14.

Accession Number: 20140610-5127.

Comments Due: 5 p.m. ET 6/20/14.

Docket Numbers: ER14-2156-000.

Applicants: Midcontinent Independent System Operator, Inc.

Description: 2014-06-10_Ramp Product Filing to be effective 12/31/9998.

Filed Date: 6/10/14.

Accession Number: 20140610-5199.

Comments Due: 5 p.m. ET 7/1/14.

Docket Numbers: ER14-2157-000.

Applicants: Avista Corporation.

Description: Avista Corp OATT Order 789 Filing to be effective 10/1/2014.

Filed Date: 6/11/14.

Accession Number: 20140611-5006.

Comments Due: 5 p.m. ET 7/2/14.

Docket Numbers: ER14-2158-000.

Applicants: Midcontinent Independent System Operator, Inc.

Description: Midcontinent Independent System Operator, Inc. submits tariff filing per 35.13(a)(2)(iii: 2014-06-11_SA 2669 NIPSCO-Zimmerman Energy GIA (J256) to be effective 6/12/2014.

Filed Date: 6/11/14.

Accession Number: 20140611-5086.

Comments Due: 5 p.m. ET 7/2/14.

Docket Numbers: ER14-2159-000.

Applicants: Midcontinent Independent System Operator, Inc.

Description: 2014-06-11_MISO-PJM JOA Attachment 5 Amendment to be effective 6/12/2014.

Filed Date: 6/11/14.

Accession Number: 20140611-5094.

Comments Due: 5 p.m. ET 7/2/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 11, 2014.
Kimberly D. Bose,
Secretary.

[FR Doc. 2014-14281 Filed 6-18-14; 8:45 am]

BILLING CODE 6717-01-P